DEPARTMENT OF JUSTICE

Notice of Extension of Public Comment Period for Consent Decree Under the Comprehensive Environmental Response, Compensation, and Liability Act

On May 16, 2018, the Department of Justice (DOJ) lodged a proposed consent decree with the United States District Court for the Southern District of Georgia in the lawsuit entitled United States v. Hercules LLC, Civil Action No. 2:18-cv-00062-LGW-RSB. At the request of some members of the public, DOJ is extending the public comment period for an additional 60 days.

The proposed consent decree would require defendant Hercules LLC to implement the interim remedy selected by the U.S. Environmental Protection Agency (EPA) for the outfall, known as Operable Unit 1, of the Terry Creek Dredge Spoil Areas/Hercules Outfall Site (“Site”) in Brunswick, in Glynn County, Georgia. The consent decree would also require the defendant to reimburse EPA $153,009.48 in past response costs at the Site, and to pay future response costs incurred by the United States in connection with this consent decree. Notice of the lodging of the decree was originally published in the Federal Register on May 23, 2018. See 83 FR 23937 (May 23, 2018). The publication of the original notice opened a thirty (30) day period for public comment on the Decree. The publication of the present notice extends the period for public comment on the Decree to August 21, 2018.

Comments concerning the consent decree should be addressed to the Assistant Attorney General, Environment and Natural Resources Division, and should refer to United States v. Hercules, LLC, D.J. Ref. No. 90-11-3-11685. All comments must be submitted no later than August 21, 2018. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $146.25 (25 cents per page reproduction cost) payable to the United States Treasury. For a paper copy without the exhibits and signature pages, the cost is $17.25.

Henry S. Friedman,
Assistant Section Chief, Environmental Enforcement Section, Environment and Natural Resources Division.

[FR Doc. 2018-12758 Filed 6-13-18; 8:45 am]

BILLING CODE 4410-15-P